DEPARTMENT OF THE INTERIOR

Fish and Wildlife Service

Pocosin Lakes National Wildlife Refuge

ACTION: Notice of application for a natural gas pipeline right-of-way on Pocosin Lakes National Wildlife Refuge, Washington and Hyde Counties, North Carolina.

SUMMARY: Notice is hereby given that under Section 28 of the Mineral Leasing Act of 1920 (41 Stat. 449: 30 U.S.C. 185), as amended by Public Law 93-153, the Eastern North Carolina Natural Gas Company has applied for a permit to construct an 8-inch natural gas pipeline in a 35 foot wide right-of-way. The right-of-way will start at where Canal E Road enters Pungo Unit of the Pocosin Lakes National Wildlife Refuge and running approximately for 8.1 miles. This pipeline right-of-way will be on, under, and across a strip of land lying in Washington and Hyde Counties, in the State of North Carolina. The Fish and Wildlife Service is currently considering the merits of approving this application.

DATES: Interested persons desiring to comment on this application must do so by August 26, 2005.

ADDRESSES: Comments or requests for additional information should be addressed to Ms. Jackie Cumpton, Refuges and Wildlife (Realty), Fish and Wildlife Service, 1875 Century Boulevard, Suite 420, Atlanta, Georgia 30345, telephone (404) 679-7160; fax (404) 679-7273.

SUPPLEMENTARY INFORMATION: If you wish to comment, you may do so by one of the following methods. You may mail comments to the above address. You may also comment via the Internet at the following address: Jackie_Cumpton@fws.gov. Please include your name and return address in your Internet message. If you do not receive a confirmation from the system that we have received your Internet message, contact us at the above phone number or address. Our practice is to make comments, including names and address of respondents, available for public review during regular business hours. Individual respondents may request that we withhold their home address from the record, which we will honor to the extent allowable by law.

The Fish and Wildlife Services is the principal Federal agency responsible for conserving, protecting, and enhancing fish, wildlife, and plants and their habitats for the continuing benefit of the American people.

Authority: The authority to publish this notice is contained in 30 U.S.C. 185(k).

Dated: June 29, 2005.
Cynthia K. Dohner,
Acting Regional Director.

[FR Doc. 05-14795 Filed 7-26-05; 8:45 am]

BILLING CODE 4310-55-M